DEPARTMENT OF ENERGY

Federal Energy Regulatory Commission

[Project No. 77-306]

Pacific Gas and Electric Company; Notice of Application Accepted for Filing and Soliciting Comments, Motions To Intervene, and Protests

Take notice that the following hydroelectric application has been filed with the Commission and is available for public inspection:

a. Application Type: Application for Temporary Variance of Flow Requirements.

b. Project No: 77-306.

c. Date Filed: April 23, 2021.

d. Applicant: Pacific Gas and Electric Company (licensee).

e. Name of Project: Potter Valley Hydroelectric Project.

f. Location: The project is located on the Eel River and East Branch Russian River in Lake and Mendocino counties, California.

g. Filed Pursuant to: Federal Power Act, 16 U.S.C. 791a-825r.

h. Applicant Contact: Ms. Jackie Pope, License Coordinator, Pacific Gas and Electric Company, Mail Code: N11D, P.O. Box 770000, San Francisco, CA 94177, Phone: (530) 254-4007.

i. FERC Contact: John Aedo, (415) 369-3335, john.aedo@ferc.gov.

j. Deadline for filing comments, motions to intervene, and protests: June 4, 2021.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include the docket number P-77-306. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The licensee requests a temporary variance of the minimum flow requirement in the East Branch Russian River and the maximum irrigation releases to the Potter Valley Irrigation District (PVID). The licensee states that due to current drought conditions and operating restrictions, the storage in Lake Pillsbury is severely depleted and is expected to reach critical levels later in the summer, whereby bank sloughing in the vicinity of the outlet works and impaired flow releases may occur. Therefore, in order to conserve water and ensure project operability, the licensee is proposing to reduce minimum flow releases to the East Branch Russian River from the current dry water year requirement of 25 cubic feet per second (cfs) to a critically dry water year requirement of 5 cfs. The licensee also requests Commission approval to decrease its license-required maximum release to PVID of 50 cfs to the exceptionally low water year maximum release of 25 cfs through October 15, 2021.

The licensee also requests that compliance with the minimum flow requirement in the East Branch Russian River be temporarily adjusted to a target flow and that compliance with the adjusted maximum diversion be temporarily adjusted to a demand-based allotment, with compliance based on a cumulative diversion allotment of 9,000 acre-feet (which would equate to the alternative 25 cfs maximum diversion). Following the conclusion of the irrigation season on October 16, the licensee would continue to provide demand-based water deliveries to PVID, but they would be limited to an average of 3 cfs. The licensee requests that the drought-related variance conclude when Lake Pillsbury storage exceeds 36,000 acre-feet following October 1, 2021, or is superseded by another variance. Due to the urgent nature of the variance request, Commission staff is approving the variance for a limited time (until June 21, 2021) until the public has an opportunity to review and comment on the licensee's proposal. Following the close of the public notice period and consideration of any comments received, Commission staff will take action on the remaining timeline associated with the licensee's request.

l. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: May 5, 2021.
Kimberly D. Bose,
Secretary.

[FR Doc. 2021-09930 Filed 5-10-21; 8:45 am]

BILLING CODE 6717-01-P